DEPARTMENT OF ENERGY

Bonneville Power Administration

Notice of Final Policy; Bonneville Power Administration Long-Term Regional Dialogue Policy

AGENCY: Bonneville Power Administration (BPA), Department of Energy.

ACTION: Notice of final policy.

SUMMARY: The Regional Dialogue Policy defines BPA's power supply and marketing role for the long term and does so in a way that meets key regional and national energy goals. This Policy sets the parameters for moving forward into the next phase of the Regional Dialogue process. The goal is to have new 20-year power sales contracts signed by the end of 2008. A 20-year contract time span gives the Pacific Northwest region greater certainty about its future power supply.

DATES: On July 19, 2007, the BPA Administrator signed the Long-Term Regional Dialogue Policy Record of Decision.

ADDRESSES: The Long-Term Regional Dialogue Policy and Record of Decision are available on the BPA Web site at http://www.bpa.gov/power/pl/regionaldialogue/announcements.shtml. Copies are also available by contacting BPA's Public Information Center at (800) 622-4520.

FOR FURTHER INFORMATION CONTACT: Scott Wilson, Regional Dialogue Program Manager, at (503) 230-7638.

Issued in Portland, Oregon, on August 1, 2007.
Stephen J. Wright,
Administrator and Chief Executive Officer.

[FR Doc. E7-15770 Filed 8-10-07; 8:45 am]

BILLING CODE 6450-01-P